POSTAL SERVICE

39 CFR Part 111

Bundling Flat-Size and Irregular Parcel Mail

AGENCY: Postal Service.

ACTION: Final rule.

SUMMARY: This final rule requires mailers to use two bands to secure all bundles of presorted flat-size mail and irregular parcels when those bundles are not shrinkwrapped.

DATES: Effective Date: April 30, 2006.

FOR FURTHER INFORMATION CONTACT: Bill Chatfield, 202-268-7278.

SUPPLEMENTARY INFORMATION:

Background

We published a proposal in the Federal Register (70 FR 66314; November 2, 2005) to require mailers to use at least two bands—one band around the length and one around the width—when only banding is used to secure bundles of flat-size and irregular parcel mailpieces. This requirement eliminates the current option to place only one band around bundles 1-inch thick or less.

Bundle integrity—the ability of bundles to remain intact—is crucial for our new, high-speed Automated Package Processing System (APPS). When bundles break open, we lose the value of mailers' presort, and we must handle individual pieces manually. Manual handling of mailpieces from broken or loose bundles results in delayed delivery and increases our processing costs.

Comments Received

We received two comments on our proposal. One commenter said it may be difficult to use two bands and maintain visible address and presort information on the top piece of each bundle. Secure bundles with visible addresses and presort designations are key APPS requirements. Mailers may use clear, smooth strapping or place the address on an unobscured part of the mailpiece (for example, in the center of one of the quadrants on the face of the mailpiece). Mailers may avoid banding altogether by shrinkwrapping bundles.

The commenter also said that the new address visibility requirement should have been published together with the new bundling standards. While we changed the standards for address visibility on October 27, 2005, mailers were given a 6-month grace period to comply. We encourage mailers to meet those standards as soon as possible, but mailers are not required to comply until April 30, 2006. The April 30, 2006, implementation date for the new bundling standards matches the compliance date for address visibility.

The second commenter disagreed that bundles prepared with only banding should be required to have bands around the length and width. The commenter stated that, in some cases, using two parallel bands around the width of the bundle is sufficient.

The standards that require at least one band around the length and one around the width for most bundles are not new standards and help ensure that bundles maintain their integrity. Mailers may use two parallel bands around the width when it can increase the integrity of the bundle, but these bands must be in addition to a third band around the length. The new standard requiring at least one band around the length and one around the width for all bundles that are not shrinkwrapped will prevent even small bundles from falling apart.

Effective Date

Mailers must prepare presort bundles of flat-size mail and irregular parcels according to the new standards beginning April 30, 2006, but we encourage mailers to follow the new standards immediately.

List of Subjects in 39 CFR Part 111

Administrative practice and procedure, Postal Service.

Accordingly, 39 CFR part 111 is amended as follows:

PART 111—[AMENDED]

1. The authority citation for 39 CFR Part 111 continues to read as follows:

Authority: 5 U.S.C. 552(a); 39 U.S.C. 101, 401, 403, 404, 3001-3011, 3201-3219, 3403-3406, 3621, 3626, 5001.

2. Amend the following sections of Mailing Standards of the United States Postal Service, Domestic Mail Manual (DMM) as follows:

* * * * *

300 Discount Flats

* * * * *

330 First-Class Mail

* * * * *

335 Mail Preparation

* * * * *

2.0 BUNDLES

* * * * *

2.4 Securing Bundles

[Add new item b as follows. Make an identical change in 345.2.5 (for Standard Mail flats), 365.2.5 (for Bound Printed Matter flats), 375.2.5 (for Media Mail flats), 385.2.5 (for Library Mail flats), 435.2.5 (for First-Class Mail parcels), 465.2.5 (for Bound Printed Matter parcels), 475.2.5 (for Media Mail parcels), 485.2.5 (for Library Mail parcels), and 707.19.4 (for Periodicals).]

* * * * *

b. When using only banding to secure bundles, the following additional requirements apply.

1. Use at least one band to encircle the length of the bundle and use at least one band to encircle the width of the bundle.

2. Use tension sufficient to tighten and depress the edges of the bundle so that pieces do not slip out of the banding during transit and processing.

* * * * *

340 Standard Mail

* * * * *

345 Mail Preparation

* * * * *

2.0 BUNDLES

* * * * *

2.6 Preparing Bundles in Sacks

[Revise introductory text to refer to the new banding requirements as follows. Delete item b to remove the old banding requirements and renumber items c through f as items b through e. Make identical changes in 707.19.8 (for Periodicals).]

In addition to the standards in 2.5, mailers must prepare and secure bundles placed in sacks as follows.

* * * * *

[Switch 445.2.5 and 445.2.6 for Standard Mail parcels. Revise new 2.5 using the text in 335.2.4 above; revise new 2.6 using the text in 345.2.6 above.]

* * * * *

[Replace text in 705.8.5.11 with text in new 335.2.4 above for bundles on pallets. Delete 705.8.5.12; renumber 8.5.13 and 8.5.14 as new 8.5.12 and 8.5.13.]

* * * * *

Neva R. Watson,
Attorney, Legislative.

[FR Doc. 06-1703 Filed 2-23-06; 8:45 am]

BILLING CODE 7710-12-P